DEPARTMENT OF LABOR

Employment and Training Administration

[TA-W-81,655]

Carlyle Plastics and Resins, Formerly Known as Fortis Plastics, A Subsidiary of Plastics Acquisitions Inc., Including On-Site Leased Workers From Kelly Services and Shelley Investments D/B/A Salem Business Center, Carlyle, IL; Amended Certification Regarding Eligibility To Apply for Worker Adjustment Assistance

In accordance with Section 223 of the Trade Act of 1974, as amended (“Act”), 19 U.S.C. 2273, the Department of Labor issued a Certification of Eligibility to Apply for Worker Adjustment Assistance on July 3, 2012, applicable to workers and former workers of workers of Fortis Plastics, a subsidiary of Plastics Acquisitions Inc., Carlyle, Illinois. The Department's notice of determination was published in the Federal Register on Monday, July 23, 2012 (77 FR 43123).

At the request of a state workforce official, the Department reviewed the certification for workers of the subject firm. The workers are engaged in activities related to the production of custom injection molded plastic parts.

New information shows that Fortis Plastics is now called Carlyle Plastics and Resins. In addition, new information shows that the worker group includes on-site workers from Kelly Services, who were sufficiently under the operational control of Fortis Plastics to be considered leased workers.

The intent of the Department's certification is to identify the new subject firm name, as well as to include the on-site leased workers. Accordingly, the Department is amending this certification to properly reflect this matter.

The amended notice applicable to TA-W-81,655 is hereby issued as follows:

All workers of Carlyle Plastics and Resins, formerly known as Fortis Plastics, a subsidiary of Plastics Acquisitions Inc., including on-site leased workers from Kelly Services and Shelley Investments d/b/a Salem Business Center, Carlyle, Illinois, who became totally or partially separated from employment on or after May 23, 2011 through July 3, 2014, and all workers in the group threatened with total or partial separation from employment on July 3, 2012 through July 3, 2014, are eligible to apply for adjustment assistance under Chapter 2 of Title II of the Trade Act of 1974, as amended.

Signed in Washington, DC, this 23rd day of August, 2012
Michael W. Jaffe,
Certifying Officer, Office of Trade Adjustment Assistance.

[FR Doc. 2012-21872 Filed 9-5-12; 8:45 am]

BILLING CODE 4510-FN-P